DEPARTMENT OF COMMERCE

National Oceanic and Atmospheric Administration

RIN 0648-XD506

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings.

DATES: The meetings will be held Tuesday, October 7, 2014 through Thursday, October 9, 2014. See SUPPLEMENTARY INFORMATION for specific dates and times.

ADDRESSES: The meetings will be held at the Courtyard Marriott Downtown Philadelphia, 21 N. Juniper St., Philadelphia, PA 19107; telephone: (215) 496-3200.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255.

SUPPLEMENTARY INFORMATION:

Tuesday, October 7, 2014

1 p.m. until 3:30 p.m.—The Executive Committee will meet.

3:30 p.m.—The Council will convene.

3:30 p.m. until 5:30 p.m.—The Surfclam and Ocean Quahog Committee will meet as a Committee of the Whole to discuss the Surfclam and Ocean Quahog Cost Recovery Amendment and the Atlantic Surfclam and Ocean Quahog Fishery Information Collection.

Wednesday, October 8, 2014

9 a.m.—The Council will convene.

9 a.m. until 11 a.m.—The Forage Fish White Paper will be discussed.

11 a.m. until 12 noon—The River Herring and Shad Committee will meet as a Committee of the Whole.

1 p.m. until 2 p.m.—The Council will discuss the Omnibus Observer Funding Amendment.

2 p.m. until 2:30 p.m.—The Vessel Baseline Amendment will be discussed.

2:30 p.m. until 4:30 p.m.—Spiny Dogfish Specifications will be discussed.

4:30 p.m. until 5:30 p.m.—Amendment 9 to the Consolidated Highly Migratory Species Fishery Management Plan will be discussed.

Thursday, October 9, 2014

9 a.m.—The Council will convene.

9 a.m. until 9:30 a.m.—The Council will receive an update on Regional Ocean Planning.

9:30 a.m. until 1 p.m.—The Council will hold its regular Business Session to receive Organizational Reports, the New England and South Atlantic Liaison Reports, the Executive Director's Report, the Science Report, Committee Reports, and conduct any continuing and/or new business.

Agenda items by day for the Council's Committees and the Council itself are:

On Tuesday, October 7—The Executive Committee will review the 2014 Implementation Plan, review the 2014-18 Strategic Plan, and discuss and adopt 2015 priorities. The Council will approve the Surfclam and Ocean Quahog Cost Recovery Amendment Public Hearing Document and discuss the National Marine Fisheries Service proposed rule to collect information from the individual transferable quota business holders in the Atlantic Surfclam and Ocean Quahog fishery.

On Wednesday, October 8—The Council will review the MAFMC white paper on forage fish. The River Herring and Shad Committee will meet as a Committee of the Whole to discuss potential impacts of lower mid-water trawl observer coverage levels on the river herring and shad cap, review progress on the committee's terms of reference, and receive an update on voluntary river herring and shad avoidance programs. The Council will review progress on alternative development and analysis for the Omnibus Observer Funding Amendment and provide direction to staff as appropriate. The Council will review public comments on the Vessel Baseline Draft Amendment and take final Council action to adopt the amendment for Secretarial review and implementation. After considering input from the Scientific and Statistical Committee, the Spiny Dogfish Monitoring Committee, and the Spiny Dogfish Advisory Panel, the Council may adopt modified 2015 Spiny Dogfish harvest levels and/or management measures if appropriate. The Council will review and comment on the proposed rule for Amendment 9 to the Consolidated Highly Migratory Species (HMS) Fishery Management Plan and receive an update on other HMS issues.

On Thursday, October 9—The Council will receive an update on Regional Ocean Planning. The Council will hold its regular Business Session to receive Organizational Reports, the New England and South Atlantic Council Liaison Reports, the Executive Director's Report, the Science Report, Committee Reports, and conduct any continuing and/or new business. Webinar access is available during the Council meeting and access details will be available at www.mafmc.org.

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: September 16, 2014.
Tracey L. Thompson,
Acting Deputy Director, Office of Sustainable Fisheries, National Marine Fisheries Service.

[FR Doc. 2014-22376 Filed 9-18-14; 8:45 am]

BILLING CODE 3510-22-P